DEPARTMENT OF HEALTH AND HUMAN SERVICES

National Institutes of Health

Office of the Director, National Institutes of Health; Notice of Meeting

Pursuant to section 10(a) of the Federal Advisory Committee Act, as amended (5 U.S.C. App.), notice is hereby given of a meeting of the Advisory Committee to the Director, National Institutes of Health.

This meeting is open to the public but is being held by teleconference only. No physical meeting location is provided for any interested individuals to listen to and/or participate in the meeting. Any individual interested in listening to the meeting discussions must call: 800-779-9002 and use Passcode: 3336961 for access to the meeting. Individuals who plan to attend and need special assistance, should notify the Contact Person listed below in advance of the meeting.

Name of Committee: Advisory Committee to the Director, National Institutes of Health.

Date: July 20, 2015.

Time: 5:00 p.m. to 6:00 p.m.

Agenda: Evaluation and analysis of the NIH Strategic Plan.

Place: National Institutes of Health, (Telephone Conference Call), Dial in Number 800-779-9002, Passcode: 3336961.

Contact Person: Gretchen Wood, Staff Assistant, National Institutes of Health, Office of the Director, One Center Drive, Building 1, Room 126, Bethesda, MD 20892, Telephone: 301-496-4272, Email: woodgs@od.nih.gov.

Any interested person may file written comments with the committee by forwarding their statement electronically to the Contact Person at woodgs@od.nih.gov. The statement should include the name, address, telephone number and when applicable, the business or professional affiliation of the interested of the interested person.

Information will also available on the committee's home page: http://acd.od.nih.gov, where any additional information for the meeting will be posted when available.

This notice is being published less than 15 days prior to the meeting due to the timing limitations of receiving input from committee members prior to presenting the plan to other audiences for comment and meeting a legislative reporting deadline.

Dated: July 1, 2015.
Anna Snouffer,
Deputy Director, Office of Federal Advisory Committee Policy.

[FR Doc. 2015-16703 Filed 7-7-15; 8:45 am]

BILLING CODE 4140-01-P